SECURITIES AND EXCHANGE COMMISSION

[500-1]

In the Matter of Yatinoo, Inc.; Corrected Order of Suspension of Trading

December 17, 2008.

It appears to the Securities and Exchange Commission that the public interest and the protection of investors require a suspension of trading in the securities of Yatinoo, Inc. (“Yatinoo”). Questions have arisen concerning the accuracy and adequacy of publicly-available information about Yatinoo securities, including information in the market place concerning the number of Yatinoo's issued and outstanding shares and market capitalization, and Yatinoo's operations. Questions have also arisen about trading activity in the market for Yatinoo securities. Yatinoo securities are quoted on the Over-the-Counter Bulletin Board under the trading symbol YTNO.

The Commission is of the opinion that the public interest and the protection of investors require a suspension of trading in the securities of the above-listed company.

Therefore, it is ordered, pursuant to Section 12(k) of the Securities Exchange Act of 1934, that trading in the securities of Yatinoo is suspended for the period from 9:30 a.m. EST on December 17, 2008, through 11:59 p.m. EST on December 31, 2008.

By the Commission.
Florence E. Harmon,
Acting Secretary.

[FR Doc. E8-30345 Filed 12-17-08; 4:15 pm]

BILLING CODE 8011-01-P